DEPARTMENT OF COMMERCE

Submission for OMB Review; Comment Request

The Department of Commerce (DOC) will submit to the Office of Management and Budget (OMB) for clearance the following proposal for collection of information under the provisions of the Paperwork Reduction Act of 1995, Public Law 104-13.

Bureau: International Trade Administration.

Title: Implementation of Tariff Rate Quota Established Under Title V of the Trade and Development Act of 2000 as Amended by the Trade Act of 2002, the Miscellaneous Trade Act of 2004, and the Pension Protection Act of 2006 for Imports of Certain Worsted Wool for Imports of Certain Worsted Wool Fabric.

Agency Form Numbers: ITA-4139P and ITA-4140P.

OMB Number: 0625-0240.

Type of Request: Regular submission.

Estimated Burden Hours: 160.

Estimated Number of Respondents: 20.

Estimated Average Hours per Response: 1 to 3 hours, based on the requirement.

Needs and Uses: Title V of the Trade and Development Act of 2000 (“the Act”), as amended by the Trade Act of 2002, the Miscellaneous Trade Act of 2004, and the Pension Protection Act of 2006, contains several provisions to assist the wool products industries. These include the establishment of tariff rate quotas (TRQ) for a limited quantity of worsted wool fabrics. The Act requires the President to fairly allocate the TRQ to persons who cut and sew men's and boys' worsted wool suits and suit-like jackets and trousers in the United States, and who apply for an allocation based on the amount of suits they produced in the prior year. The Department must collect certain information in order to fairly allocate the TRQ to eligible persons.

Affected Public: Business or other for-profit organizations.

Frequency: Annually.

Respondent's Obligation: Voluntary.

OMB Desk Officer: David Rostker, (202) 395-3897.

Copies of the above information collection proposal can be obtained by writing Diana Hynek, Departmental Paperwork Clearance Officer, Department of Commerce, Room 6625, 14th & Constitution Avenue, NW., Washington, DC 20230 or via the Internet at dHynek@doc.gov.

Written comments and recommendations for the proposed information collection should be sent within 30 days of the publication to David Rostker, OMB Desk Officer, David_Rostker@omb.eop.gov or fax (202) 395-7285.

Dated: May 31, 2007.
Gwellnar Banks,
Management Analyst, Office of the Chief Information Officer.

[FR Doc. E7-10877 Filed 6-5-07; 8:45 am]

BILLING CODE 3510-DR-P